DEPARTMENT OF AGRICULTURE

Forest Service

Community Wildfire Defense Grant Program

AGENCY: Forest Service, Department of Agriculture (USDA).

ACTION: Notice of funding opportunity; emergency collection; request for comment.

SUMMARY: U.S. Department of Agriculture's Forest Service announces the availability of up to $1 billion in grant funding, appropriated under the Infrastructure Investment and Jobs Act, for the establishment of the Community Wildfire Defense Grant (CDWG) Program. As authorized under the Infrastructure Investment and Jobs Act, funds will be made available and distributed to eligible applicants within the footprints of the Western States, Northeast-Midwest States, Southern States, and Indian Tribes/Alaska Native Corporations. There are two primary project types for which the CDWG provides funding: the development and revising of Community Wildfire Protection Plans (CWPP) and the implementation of projects described in a CWPP that is less than ten years old. The Act prioritizes at-risk communities that are in an area identified as having high or very high wildfire hazard potential, are low-income, and/or have been impacted by a severe disaster.

DATES: Applications for the FY2022 CDWG must be submitted per the included instructions on grants.gov by 11:59 p.m., Eastern Time zone, October 7, 2022.

• For Indian Tribes/Alaska Native Corporations, search for the following grant Opportunity Number in grants.gov and follow the included instructions: USDA-FS-2022-CWDG-TRIBES. Please note that Indian Tribes/Alaska Native Corporations can apply through either this specific grant opportunity or the applicable regional notice (Western States, Northeast-Midwest States, or Southern States) listed below.

• For the Western States of Alaska, Arizona, California, Colorado, Hawaii, Idaho, Kansas, Montana, Nebraska, Nevada, New Mexico, North Dakota, Oregon, South Dakota, Utah, Washington, and Wyoming, and for the Territory of American Samoa, the Republic of Palau, the Federated States of Micronesia, the Territory of Guam, the Commonwealth of Northern Mariana Islands, and the Republic of the Marshall Islands, search for the following grant Opportunity Number in grants.gov and follow the included instructions: USDA-FS-2022-CWDG-CWSF.

• For the Northeast-Midwest States of Connecticut, Delaware, Illinois, Indiana, Iowa, Maine, Maryland, Massachusetts, Michigan, Minnesota, Missouri, New Hampshire, New Jersey, New York, Ohio, Pennsylvania, Rhode Island, Vermont, West Virginia and Wisconsin, and for the District of Columbia, search for the following grant Opportunity Number in grants.gov and follow the included instructions: USDA-FS-2022-CWDG-NEMW.

• For the Southern States of Alabama, Arkansas, Florida, Georgia, Kentucky, Louisiana, Mississippi, North Carolina, Oklahoma, South Carolina, Tennessee, Texas, and Virginia, and for Puerto Rico and the U.S. Virgin Islands, search for the following grant Opportunity Number in grants.gov and follow the included instructions: USDA-FS-2022-CWDG-SGSF.

Applications received after 11:59 p.m., Eastern Time zone, October 7, 2022, will not be considered.

Comments related to the collection of information must be submitted by September 27, 2022 to be assured of consideration. Comments received after that date will be considered to the extent practicable. Please follow the directions provided in Paperwork Reduction Act section of this notice.

ADDRESSES: This funding opportunity will be made available on grants.gov. Applicants are strongly encouraged to reach out to the relevant State Forester and Forest Service Cooperative Fire Specialist during application development to ensure the project aligns with program purpose and eligibility and receive input to strengthen your application.

Comments concerning this notice should be addressed to: USDA, Forest Service, Attention Sheila Walker, USDA Forest Service, Washington Office, Fire and Aviation Management (FAM), 1400 Independence Avenue Southwest, Mailstop 1107, Washington, DC 20250. Comments may also be submitted via email to: Sheila.Walker2@usda.gov. The public may inspect comments received at USDA Forest Service, Washington Office during normal business hours. Visitors are encouraged to call ahead to 202-205-0995 to facilitate entry to the building.

FOR FURTHER INFORMATION CONTACT: Sheila Walker, Fire and Aviation Management by phone at 503-313-2784 or email at Sheila.Walker2@usda.gov. Individuals who use telecommunication devices for the deaf (TDD) may call the Federal Relay Service (FRS) at 1-800-877-8339 twenty-four hours a day, every day of the year, including holidays.

SUPPLEMENTARY INFORMATION:

Congressional Review Act

Pursuant to Subtitle E of the Small Business Regulatory Enforcement Fairness Act of 1996 (also known as the Congressional Review Act or CRA), 5 U.S.C. 801 et seq., the Office of Information and Regulatory Affairs in the Office of Management and Budget designated this action as a major rule as defined by 5 U.S.C. 804(2), (Pub. L. 104-121), because it is likely to result in an annual effect on the economy of $100,000,000 or more. Accordingly, there is a 60-day delay in the effective date of this action. Application rating, ranking, and selection will not begin until after October 7, 2022. Therefore, the 60-day delay required by the CRA is not expected to have a material impact upon the administration and/or implementation of the Community Wildfire Defense Grant Program.

Overview

Federal Agency: Forest Service, USDA.

Funding Opportunity Title: Community Wildfire Defense Grant (CDWG) Program.

Funding Opportunity Numbers: USDA-FS-2022-CWDG-TRIBES, USDA-FS-2022-CWDG-CWSF, USDA-FS-2022-CWDG-NEMW, and USDA-FS-2022-CWDG-SGSF.

Announcement Type: Notice of Funds Opportunity.

Assistance Listings (AL) Number: 10.720.

Due Date for Applications: Applications for the FY2022 CDWG must be submitted per the included instructions on grants.gov by 11:59 p.m., Eastern Time zone, October 7, 2022. Applications received after 11:59 p.m., Eastern Time zone, October 7, 2022, will not be considered.

Informational Webinars: Four (4) informational webinars will be provided to any interested applicants, one designed for each separate Notice of Funding Opportunity. These webinars will occur during the first two weeks of August 2022 and will be recorded for future viewing. Specific information regarding the webinars, including dates, times, and registration information, will be made available on the following web page: www.fs.usda.gov/managing-land/fire/grants.

Background

The purpose of the Community Wildfire Defense Grant (CWDG) is to assist at-risk local communities and Indian Tribes with planning for and mitigating against the risk created by wildfire. This program is authorized in H.R. 3684, “An Act to authorize funds for Federal-aid highways, highway safety programs, and transit programs, and for other purposes,” commonly referred to as the Infrastructure Investment and Jobs Act. Specifically, the CWDG is provided for in Title VIII, Section 40803. There are two primary project types for which the grant provides funding: the development and revising of Community Wildfire Protection Plans (CWPP) and the implementation of projects described in a CWPP that is less than ten years old. The Act prioritizes at-risk communities that are in an area identified as having high or very high wildfire hazard potential, are low-income, and/or have been impacted by a severe disaster. More details on these three priorities can be found on grants.gov.

The CWDG helps communities in the wildland urban interface (WUI) implement the three goals of the National Cohesive Wildland Fire Management Strategy (Cohesive Strategy):

• Restore and Maintain Landscapes: Landscapes across all jurisdictions are resilient to fire-related disturbances, in accordance with management objectives.

• Create Fire Adapted Communities: Human populations and infrastructure can withstand a wildfire without loss of life and property.

• Improve Wildfire Response: All jurisdictions participate in making and implementing safe, effective, efficient risk-based wildfire management decisions.

Key Points

• Who Can Apply: Entities eligible to apply for funding under the CWDG include:

a. Units of local governments representing communities located in an area with a risk of wildfires,

b. Indian Tribes (please apply through either the Indian Tribes/Alaska Native Corporations specific notice or the applicable regional notice),

c. Non-profit organizations including homeowner associations that assist such communities,

d. State forestry agencies (including U.S. territories and interests), and

e. Alaska Native Corporations (please apply through either the Indian Tribes/Alaska Native Corporations specific notice or the applicable regional notice).

For-profit entities are not eligible to apply for this funding opportunity.

• Eligible Lands: Eligible applicants may apply for grant funding for a project proposal to be conducted on lands with the following ownership types, as long as the project proposal directly reduces wildfire risk to a community:

a. Private lands,

b. Local government,

c. Homeowner associations,

d. State government, and

e. Tribal/Alaska native corporation (includes Trust lands).

Lands administered by the federal government are not eligible for this funding opportunity with the exception of lands held in trust for Native American Tribes and individuals (Trust lands).

• State Forest Action Plans and the Cohesive Wildland Fire Management Strategy: Projects should further the priorities, e.g., goal, strategy, and/or priority landscape, in the most recent State Forest Action Plans as well as the relevant regional cohesive wildland fire management strategy document.

• Executive Order 13985: Advancing Racial Equity and Support for Underserved Communities Through the Federal Government: We prioritize applications that show a clear benefit to underserved people and the communities where they reside or the forest areas that they value. Where this is the case, this should be described in the “Project Narrative Form.” Underserved communities are also eligible to request a waiver of match requirements.

• Minimum and Maximum Funding Levels:

a. There is no minimum Federal funding limit for projects under CWDG.

b. The maximum amount of Federal funding awarded to any one community or Tribe via this competitive process is:

• $250,000 for the creation or updating of a Community Wildfire Protection Plan, and

• $10 million for a project described within a Community Wildfire Protection Plan less than 10 years old.

c. For planning purposes, the Federal funding allocated through the CWDG competitive process is expected to be approximately $160 million annually for the next five years.

• Required Matching Funds: The CWDG program has differing levels of match dependent upon the proposal for which is being applied. For proposals to develop or update a CWPP, the required match is 10%. For proposals to implement projects described within a CWPP, the required match is 25%. Matching funds must be derived entirely from non-Federal sources (unless expressly authorized in law by the other federal program). The match must be met by eligible and allowable costs and is subject to match provisions in grant regulations (Code of Federal Regulations Title 2 Part 200.306 and Subpart E for Cost Principles). Match must meet all the same requirements as the Federal share and be documented sufficiently to support financial tracking and accountability. Communities meeting the definition of underserved may request a waiver of match; no other waiver requests are allowable under this program.

• Lead Agency or Organization: All applications must identify the lead agency or organization that will have primary responsibility for coordinating project work and reporting. The lead agency may pass funds to other partners performing work as relevant.

• Grant Timeframes: Projects must be completed within five (5) years.

• For Proposals including multiple communities: For separate projects in separate communities, a separate narrative form and included budget will need to be filled out for each community for purposes of determining eligibility, prioritization, and ranking. For an application consisting of a single project that spans multiple communities, the project can be applied for and described within the same application and narrative form.

• Scoring and Ranking of applications: Applications will be scored by members of a regional review panel. Individual reviewer scores will be normalized. All regionally-scored applications will be compiled in a single nationally-ranked list, which will be used to distribute funding.

• Reporting: Funded CWDG projects will be required to provide financial reports to the grant's administrator on a quarterly basis, and project performance reports on an annual basis. The annual performance report shall include a spatial data component. This requires both Forest Service grant monitors and CWDG grant recipients to coordinate in entering project information.

• Build America/Buy America: The Build America, Buy America Act, enacted as part of the Infrastructure Investment and Jobs Act, established a domestic content procurement preference for all Federal financial assistance obligated for infrastructure projects after May 14, 2022. The Buy America preference requires that all iron, steel, manufactured products, and construction materials used in infrastructure projects are produced in the United States. If a recipient proposes a waiver of the Buy America preference, they must identify the items for which a waiver will be sought in the application. Applicants should not proceed with the expectation that waivers will be granted.

• Environmental Compliance: The requirements of the National Environmental Policy Act (NEPA) apply to proposed “Federal” actions. Whether an action under the CWDG program may be subject to NEPA analysis is dependent upon the level of federal (Forest Service) control and authority over the action. Deciding whether or not the Forest Service is responsible for performing NEPA analysis is determining whether the Forest Service exercises control over the implementation of the action to be funded, and to what degree implementation of the action is dependent upon Forest Service funding. For example, where the Forest Service provides funding, but does not exercise control or decision making over the specific projects and actions funded by the CWDG grant, it is unlikely to be deemed a Federal action for purposes of requiring NEPA analysis. Similarly, where the Forest Service provides only a small percentage of the funding for a project, it is unlikely that environmental analysis will be required under NEPA due to limited control and responsibility.

• Floodplain Management Criteria: If applicable and appropriate, a project located in a Special Flood Hazard Area must implement and meet the conditions contained within the Federal Flood Risk Management Standard (FFRMS).

• Labor Standards: All laborers and mechanics employed by the applicant, subrecipients, contractors or subcontractors in the performance of construction, alteration, or repair work on an award or project in excess of $2,000 funded directly by or assisted in whole or in part by funds made available under this grant program shall be paid wages at rates not less than those prevailing on similar projects in the locality, as determined by the Secretary of Labor in accordance with subchapter IV of chapter 31 of title 40, United States Code commonly referred to as the “Davis-Bacon Act” (DBA).

Applicants shall provide written assurance acknowledging the DBA requirements for the award or project and confirming that all laborers and mechanics performing construction, alteration, or repair work on projects in excess of $2,000 funded directly by or assisted in whole or in part by and through funding under the award are paid or will be paid wages at rates not less than those prevailing on projects of a character similar in the locality as determined by the Secretary of Labor in accordance with Subchapter IV of Chapter 31 of Title 40, United States Code (Davis-Bacon Act).

Recipients of funding will also be required to undergo DBA compliance training and to maintain competency in DBA compliance. The U.S. Department of Labor offers free Prevailing Wage Seminars several times a year that meet this requirement, at https://www.dol.gov/agencies/whd/government-contracts/construction/seminars/events.

For additional guidance on how to comply with DBA provisions and clauses, see https://www.dol.gov/agencies/whd/government-contracts/construction and https://www.dol.gov/agencies/whd/government-contracts/protections-for-workers-in-construction.

Paperwork Reduction Act

In accordance with the Paperwork Reduction Act of 1995 (44 U.S.C. chapter 35), USDA requested that the Office of Management and Budget (OMB) conduct an emergency review by July 26, 2022, of a new information collection that contains the CDWG Information Collection and Recordkeeping requirements.

In addition to the emergency clearance, the regular clearance process is hereby being initiated to provide the public with the opportunity to comment under a full comment period, as the Agency intends to request regular approval from OMB for this information collection. Comments from the public on new, proposed, revised, and continuing collections of information help us assess the impact of our information collection requirements and minimize the public's reporting burden. Comments may be submitted regarding this information collection by the following method:

• Federal eRulemaking Portal: Go to https://www.regulations.gov and, in the “Search” box, type in the Docket No. USDA-2022-0017. Follow the online instructions at that site for submitting comments. This website provides the ability to type short comments directly into the comment field on this web page or attach a file for lengthier comments. Information on using regulations.gov, including instructions for accessing documents, submitting comments, and viewing the docket after the close of the comment period, is available through the site's “FAQ” link at the bottom. Comments on this information collection must be submitted by September 27, 2022 to be assured of consideration. Comments received after that date will be considered to the extent practicable.

A federal agency may not conduct or sponsor, and a person is not required to respond to, nor shall a person be subject to a penalty for failure to comply with a collection of information subject to the requirements of the Paperwork Reduction Act unless that collection of information displays a currently valid OMB Control Number. Data furnished by the applicants will be used to determine eligibility for program benefits. Furnishing the data is voluntary; however, failure to provide data could result in program benefits being withheld or denied.

Title: Community Wildfire Defense Grant Program.

OMB Number: 0596-NEW.

Type of Request: New Information Collection.

Abstract: The Community Wildfire Defense Grant Program forms will be used by applicants to apply for the Community Wildfire Defense Grant (CWDG) Program. The purpose of the CWDG Program is to assist at-risk local communities and Indian Tribes with planning and mitigating against the risk created by wildfire. This program is authorized in the Infrastructure Investment and Jobs Act (Pub. L. 117-58), commonly referred to as the Bipartisan Infrastructure Law (BIL). Specifically, the CWDG Program is provided for in Title VIII, Section 40803. There are two primary project types for which the grant provides funding: the development and revision of Community Wildfire Protection Plans (CWPP) and the implementation of projects described in a CWPP that is less than ten years old. The Act prioritizes at-risk communities that are in an area identified as having high or very high wildfire hazard potential, are low-income, and/or have been impacted by a severe disaster.

Burden Hours for Community Wildfire Defense Grant Program Project Narrative Form

Estimate of Annual Burden: 1.25 hours.

Type of Respondents: Public applicants.

Estimated Annual Number of Respondents: 500.

Estimated Annual Number of Responses per Respondent: 1.

Estimated Total Annual Burden on Respondents: 625 hours.

The burden for the Narrative Form includes submission of documentation of at-risk community, wildfire hazard potential, low-income, and/or impacted by a severe disaster as well as any maps or photos to accompany the narrative.

Burden Hours for Community Wildfire Defense Grant Program Project Narrative Form

Estimate of Annual Burden: 1.25 hours.

Type of Respondents: Tribal applicants.

Estimated Annual Number of Respondents: 100.

Estimated Annual Number of Responses per Respondent: 1.

Estimated Total Annual Burden on Respondents: 125 hours.

The burden for the Narrative Form includes submission of documentation of at-risk community, wildfire hazard potential, low-income, and/or impacted by a severe disaster as well as any maps or photos to accompany the narrative.

Burden Hours for Application for Federal Assistance 424

Estimate of Annual Burden: 1 hour.

Type of Respondents: Public applicants.

Estimated Annual Number of Respondents: 100.

Estimated Annual Number of Responses per Respondent: 1.

Estimated Total Annual Burden on Respondents: 100 hours.

Burden Hours for Application for Federal Assistance 424:

Estimate of Annual Burden: 1 hour.

Type of Respondents: Tribal applicants.

Estimated Annual Number of Respondents: 100.

Estimated Annual Number of Responses per Respondent: 1.

Estimated Total Annual Burden on Respondents: 100 hours.

Burden Hours for BUDGET INFORMATION—Non-Construction Programs 424a

Estimate of Annual Burden: 1 hour.

Type of Respondents: Public applicants.

Estimated Annual Number of Respondents: 100.

Estimated Annual Number of Responses per Respondent: 1.

Estimated Total Annual Burden on Respondents: 100 hours.

Burden Hours for BUDGET INFORMATION—Non-Construction Programs 424a

Estimate of Annual Burden: 1 hour.

Type of Respondents: Tribal applicants.

Estimated Annual Number of Respondents: 100.

Estimated Annual Number of Responses per Respondent: 1.

Estimated Total Annual Burden on Respondents: 100 hours.

Burden Hours for Community Wildfire Defense Grant Program Annual Performance Report

Estimate of Annual Burden: 2.00 hours.

Type of Respondents: Public applicants.

Estimated Annual Number of Respondents: 400.

Estimated Annual Number of Responses per Respondent: 1.

Estimated Total Annual Burden on Respondents: 800 hours.

Burden Hours for Community Wildfire Defense Grant Program Annual Performance Report

Estimate of Annual Burden: 2.00 hours.

Type of Respondents: Tribal applicants.

Estimated Annual Number of Respondents: 80.

Estimated Annual Number of Responses per Respondent: 1.

Estimated Total Annual Burden on Respondents: 160 hours.

Burden Hours for Community Wildfire Defense Grant Program System for Award Management Screenshot

Estimate of Annual Burden: 0.10 hours.

Type of Respondents: Public applicants.

Estimated Annual Number of Respondents: 400.

Estimated Annual Number of Responses per Respondent: 1.

Estimated Total Annual Burden on Respondents: 40 hours.

Burden Hours for Community Wildfire Defense Grant Program System for Award Management Screenshot

Estimate of Annual Burden: 0.10 hours.

Type of Respondents: Tribal applicants.

Estimated Annual Number of Respondents: 80.

Estimated Annual Number of Responses per Respondent: 1.

Estimated Total Annual Burden on Respondents: 8 hours.

Burden Hours for Community Wildfire Defense Grant Program Davis-Bacon Act Written Assurance

Estimate of Annual Burden: 0.10 hours.

Type of Respondents: Public applicants.

Estimated Annual Number of Respondents: 500.

Estimated Annual Number of Responses per Respondent: 1.

Estimated Total Annual Burden on Respondents: 50 hours.

Burden Hours for Community Wildfire Defense Grant Program Davis-Bacon Act Written Assurance

Estimate of Annual Burden: 0.10 hours.

Type of Respondents: Tribal applicants.

Estimated Annual Number of Respondents: 100.

Estimated Annual Number of Responses per Respondent: 1.

Estimated Total Annual Burden on Respondents: 10 hours.

Burden Hours for Community Wildfire Defense Grant Program Audit Requirements

Estimate of Annual Burden: 24.00 hours.

Type of Respondents: Public applicants.

Estimated Annual Number of Respondents: 25.

Estimated Annual Number of Responses per Respondent: 1.

Estimated Total Annual Burden on Respondents: 600 hours.

Burden Hours for Community Wildfire Defense Grant Program Audit Requirements:

Estimate of Annual Burden: 24.00 hours.

Type of Respondents: Tribal applicants.

Estimated Annual Number of Respondents: 10.

Estimated Annual Number of Responses per Respondent: 1.

Estimated Total Annual Burden on Respondents: 240 hours.

Comment Is Invited: Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Civil Rights

Programs referenced in this Notice are subject to applicable Civil Rights Laws. These laws include the Equal Credit Opportunity Act, Title VI of the Civil Rights Act of 1964, Title VIII of the Civil Rights Act of 1968, and Section 504 of the Rehabilitation Act of 1973.

Intergovernmental Review

The CDWG Program is subject to Executive Order 12372, “Intergovernmental Review of Federal Programs.” Submit one copy of the application to the State government single point of contact, if one has been designated, at the same time as application submission to the Agency. If the project is located in more than one state, submit a copy to each applicable state government single point of contact. Go to https://www.whitehouse.gov/wp-content/uploads/2020/04/SPOC-4-13-20.pdf for state office contact information. Applications from Federally recognized Indian tribes are not subject to this requirement.

Executive Order 13175, Consultation and Coordination With Indian Tribal Governments

Executive Order 13175 requires federal agencies to consult and coordinate with tribes on a government-to-government basis on policies that have tribal implications. The Forest Service consulted and provided an overview of the CWDG program to Tribal entities in coordination with the FS Office of Tribal Relations. In addition, a tribal liaison was a member of the stakeholder group developing the program. An informational webinar specific to Tribes will occur during the first two weeks of August 2022 and will be recorded for future viewing. The webinar's date, time, and registration information will be made available on the following web page: www.fs.usda.gov/managing-land/fire/grants. Cost-sharing requirements are mandated in the Infrastructure Investment and Jobs Act. Communities meeting the definition of underserved per Executive Order 13985 are eligible to request a waiver of match requirements.

Non-Discrimination Statement

In accordance with Federal civil rights laws and U.S. Department of Agriculture (USDA) civil rights regulations and policies, the USDA, its Mission Areas, agencies, staff offices, employees, and institutions participating in or administering USDA programs are prohibited from discriminating based on race, color, national origin, religion, sex, gender identity (including gender expression), sexual orientation, disability, age, marital status, familial status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; the USDA TARGET Center at (202) 720-2600 (voice and TTY); or the Federal Relay Service at (800) 877-8339.

To file a program discrimination complaint, a complainant should complete a Form AD-3027, USDA Program Discrimination Complaint Form, which can be obtained online at https://www.usda.gov/sites/default/files/documents/usda-program-discrimination-complaint-form.pdf, from any USDA office, by calling (866) 632-9992, or by writing a letter addressed to USDA. The letter must contain the complainant's name, address, telephone number, and a written description of the alleged discriminatory action in sufficient detail to inform the Assistant Secretary for Civil Rights about the nature and date of an alleged civil rights violation. The completed AD-3027 form or letter must be submitted to USDA by:

(1) Mail: U.S. Department of Agriculture, Office of the Assistant Secretary for Civil Rights, 1400 Independence Avenue SW, Washington, DC 20250-9410; or

(2) Fax: (833) 256-1665 or (202) 690-7442; or

(3) Email: program.intake@usda.gov.

USDA is an equal opportunity provider, employer, and lender.

Authority: This solicitation is authorized pursuant to the Infrastructure Investment and Jobs Act (Pub. L. 117-58).

John Crockett,
Acting Deputy Chief,State and Private Forestry.

[FR Doc. 2022-16448 Filed 7-28-22; 8:45 am]

BILLING CODE 3411-15-P